DEPARTMENT OF ENERGY

Federal Energy Regulatory Commission

[Project No. 14230-001]

George Wenschhof, 2C Land & Cattle Company LLC; Notice of Transfer of Exemption

1. By letter filed May 5, 2015, George C. Wenschhof informed the Commission that the exemption from licensing for the Meeker Wenschhof Hydroelectric Project, FERC No. 14230, originally issued September 14, 2011,¹ has been transferred to 2C Land & Cattle Company LLC. The project is located on an existing irrigation pipeline in Rio Blanco County, Colorado. The transfer of an exemption does not require Commission approval.

¹ 136 FERC ¶ 62,224, Order Granting Exemption From Licensing (Conduit) (2011).

2. 2C Land & Cattle Company LLC is now the exemptee of the Meeker Wenschhof Hydroelectric Project, FERC No. 14230. All correspondence should be forwarded to: Mr. Christopher P. Collins, Manager, 2C Land & Cattle Company LLC, 1308 Sage Ridge Road, P.O. Box 2607, Meeker, CO 81641.

Dated: May 20, 2015.
Kimberly D. Bose,
Secretary.

[FR Doc. 2015-12712 Filed 5-26-15; 8:45 am]

BILLING CODE 6717-01-P